Executive Order 14385 of February 6, 2026

Protecting the National Security and Welfare of the United States and Its Citizens From Criminal Actors and Other Public Safety Threats

By the authority vested in me as President by the Constitution and the laws of the United States of America, including 6 U.S.C. 122(a)(2), it is hereby ordered:

Section 1. Policy. It is the policy of the United States to protect its welfare and security, and the welfare and security of its citizens, from criminal actors. Such criminal actors may include foreign nationals with criminal histories who have entered or remained in the United States in violation of the immigration laws of the United States or who otherwise seek to violate the criminal laws of the United States. It is also the policy of the United States to cooperate with trusted foreign governments by sharing information concerning convicted felons on a reciprocal basis for border security and immigration purposes. The Department of Homeland Security (DHS) is responsible for safeguarding the borders of the United States by interdicting persons and goods illegally entering the United States; protecting against the entry of dangerous goods, narcotics, and firearms; and detecting, responding to, and interdicting terrorists, drug smugglers, human smugglers, and other persons who seek to harm the United States. To fulfill these responsibilities, and consistent with the policy described above, DHS immigration authorities must access criminal history record information (CHRI) in the custody of Federal criminal justice agencies to the maximum extent permitted by law.

Sec. 2. Providing CHRI to DHS. The Attorney General shall provide DHS with access, for purposes related to DHS's screening and vetting missions and to the maximum extent permitted by law, to CHRI available to or maintained by the Department of Justice.

Sec. 3. Exchanging Felony Conviction Records with Visa Waiver Program and Other Countries for Border Security and Immigration Purposes. (a) The Secretary of Homeland Security may exchange, to the maximum extent permitted by law, CHRI with the border security and immigration authorities of Visa Waiver Program (VWP) countries, countries that have entered into a Preventing and Combating Serious Crime or similar agreement with the United States, and other trusted allies, under an agreement or arrangement described in subsection (b) of this section. The Secretary of Homeland Security may provide this information to these countries for the sole purpose of screening travelers and immigrants seeking to enter or stay in the VWP or other country.

(b) Any exchange of CHRI by the Secretary of Homeland Security with foreign countries shall be on the basis of reciprocity and under a bilateral or multilateral agreement or arrangement entered into by DHS that contains appropriate safeguards to protect the privacy of United States persons and other individuals consistent with applicable law.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Homeland Security.

THE WHITE HOUSE,

February 6, 2026.

[FR Doc. 2026-02819

Filed 2-10-26; 11:15 am]

Billing code 4410-10-P